FEDERAL ELECTION COMMISSION

Sunshine Act Meeting

Federal Register CITATION OF PREVIOUS ANNOUNCEMENT: 86 FR 14752.

PREVIOUSLY ANNOUNCED TIME AND DATE OF THE MEETING: Tuesday, March 23, 2021 at 10:00 a.m. and its continuation at the conclusion of the open meeting on March 25, 2021.

CHANGES IN THE MEETING: This meeting will also discuss:

Matters relating to internal personnel decisions, or internal rules and practices.

* * * * *

CONTACT PERSON FOR MORE INFORMATION: Judith Ingram, Press Officer, Telephone: (202) 694-1220.

Vicktoria J. Allen,
Acting Deputy Secretary of the Commission.

[FR Doc. 2021-06795 Filed 3-30-21; 11:15 am]

BILLING CODE 6715-01-P